DEPARTMENT OF DEFENSE

Office of the Secretary

Renewal of Department of Defense Federal Advisory Committees

AGENCY: DoD.

ACTION: Renewal of Federal Advisory Committee.

SUMMARY: The Department of Defense is publishing this notice to announce that it is renewing the charter for the Uniform Formulary Beneficiary Advisory Panel (“the Panel”).

FOR FURTHER INFORMATION CONTACT: Jim Freeman, Advisory Committee Management Officer for the Department of Defense, 703-692-5952.

SUPPLEMENTARY INFORMATION: This Panel's charter is being renewed under the provisions of 10 U.S.C. 1074g(c), the Federal Advisory Committee Act of 1972 (5 U.S.C. Appendix, as amended), the Government in the Sunshine Act of 1976 (5 U.S.C. 552b) (“the Sunshine Act”), and 41 CFR 102-3.50(a).

The Panel is a non-discretionary Federal advisory committee that shall provide the Secretary of Defense and the Deputy Secretary of Defense, through the Under Secretary of Defense for Personnel and Readiness (USD(P&R)), the Assistant Secretary of Defense for Health Affairs (ASD(HA)), and the Director, Defense Health Agency, independent advice and recommendations on the development of the uniform formulary. The Secretary of Defense shall consider the comments of the Panel before implementing the uniform formulary or implementing changes to the uniform formulary.

The Panel shall report to the Secretary of Defense and the Deputy Secretary of Defense through the USD(P&R), the ASD(HA), and the Director, Defense Health Agency. The USD(P&R) may act upon the Panel's advice and recommendations.

The Department of Defense (DoD), through the office of the USD(P&R) and the Defense Health Agency, shall provide support, as deemed necessary, for the Panel's performance, and shall ensure compliance with the requirements of the FACA, the Government in the Sunshine Act of 1976 (5 U.S.C. 552b, as amended) (“the Sunshine Act”), governing Federal statutes and regulations, and established DoD policies and procedures.

The Panel, pursuant to 10 U.S.C. 1074g(c)(2), shall be comprised of no more than 15 members. The Panel shall include members that represent:

a. Non-governmental organizations and associations that represent the views and interests of a large number of eligible covered beneficiaries;

b. Contractors responsible for the TRICARE retail pharmacy program;

c. Contractors responsible for the national mail-order pharmacy program; and

d. TRICARE network providers.

Panel members shall be appointed by the Secretary of Defense or the Deputy Secretary of Defense and their appointments shall be renewed on an annual basis in accordance with DoD policies and procedures. Individuals who are not full-time or permanent part-time Federal employees shall be appointed as experts or consultants, pursuant to 5 U.S.C. § 3109, to serve as special government employee (SGE) members. Individuals who are full-time or permanent part-time Federal employees shall be appointed, pursuant to 41 CFR 102-3.130(a), to serve as regular government employee (RGE) members. Panel members shall serve a term of service of one-to-four years, and no member may serve more than two consecutive terms of service without the Secretary of Defense or the Deputy Secretary of Defense approval. This same term of service limitations also applies to any DoD authorized subcommittee.

All new members of the panel are appointed to provide advice on the basis of their best judgment without representing any particular point of view and a manner that is free from conflict of interest.

Panel members will serve without compensation except for reimbursement of travel and per diem as it pertains to official business of the Panel.

DoD, when necessary and consistent with the Panel's mission and DoD policies and procedures, may establish subcommittees, task forces, or working groups to support the Panel. Establishment of subcommittees will be based upon a written determination, to include terms of reference, by the Secretary of Defense, the Deputy Secretary of Defense, or the USD(P&R), as the Panel's sponsor.

Such subcommittees shall not work independently of the chartered Panel, and shall report all of their recommendations and advice solely to the Panel for full and open deliberation and discussion. Subcommittees, task forces, or working groups have no authority to make decisions and recommendations, verbally or in writing, on behalf of the Panel. No subcommittee or any of its members can update or report, verbally or in writing, on behalf of the Panel, directly to the DoD or any Federal officer or employee.

The Secretary of Defense or the Deputy Secretary of Defense will appoint subcommittee members to a term of service of one-to-four years, with annual renewals, even if the member in question is already a member of the Panel. Subcommittee members shall not serve more than two consecutive terms of service unless authorized by the Secretary of Defense or the Deputy Secretary of Defense.

Subcommittee members, if not full-time or permanent part-time Federal employees, will be appointed as experts or consultants pursuant to 5 U.S.C. 3109 to serve as SGE members. Subcommittee members, who are full-time or permanent part-time Federal employees, shall be appointed pursuant to 41 CFR 102-3.130(a) to serve as RGE members. With the exception of reimbursement of official travel and per diem related to the Panel or its subcommittees, subcommittee members shall serve without compensation.

All subcommittees operate under the provisions of FACA, the Sunshine Act, governing Federal statutes and regulations, and established DoD policies and procedures.

The Panel's Designated Federal Officer (DFO) shall be a full-time or permanent part-time DoD employee and shall be appointed in accordance with established DoD policies and procedures.

The Panel's DFO is required to be in attendance at all meetings of the Panel and any subcommittees for the entire duration of each and every meeting. However, in the absence of the Panel's DFO, a properly approved Alternate DFO, duly appointed to the Panel according to established DoD policies and procedures, shall attend the entire duration of all meetings of the Panel and its subcommittees.

The DFO, or the Alternate DFO, shall call all meetings of the Panel and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Uniform Formulary Beneficiary Advisory Panel membership about the Panel's mission and functions. Written statements may be submitted at any time or in response to the stated agenda of planned meeting of the Uniform Formulary Beneficiary Advisory Panel.

All written statements shall be submitted to the DFO for the Uniform Formulary Beneficiary Advisory Panel, and this individual will ensure that the written statements are provided to the membership for their consideration. Contact information for the Uniform Formulary Beneficiary Advisory Panel DFO can be obtained from the GSA's FACA Database— http://www.facadatabase.gov/.

The DFO, pursuant to 41 CFR 102-3.150, will announce planned meetings of the Uniform Formulary Beneficiary Advisory Panel. The DFO, at that time, may provide additional guidance on the submission of written statements that are in response to the stated agenda for the planned meeting in question.

Dated: July 14, 2014.
Aaron Siegel,
Alternate OSD Federal Register Liaison Officer, Department of Defense.

[FR Doc. 2014-16883 Filed 7-17-14; 8:45 am]

BILLING CODE 5001-06-P